DEPARTMENT OF HOMELAND SECURITY

Federal Emergency Management Agency

[Docket ID: FEMA-2019-0021; OMB No. 1660-NW75]

Agency Information Collection Activities: Proposed Collection; Comment Request; Facility Access Request

AGENCY: Federal Emergency Management Agency, DHS.

ACTION: Notice and request for comments.

SUMMARY: The Federal Emergency Management Agency, as part of its continuing effort to reduce paperwork and respondent burden, invites the general public to take this opportunity to comment on a new information collection. In accordance with the Paperwork Reduction Act of 1995, this notice seeks comments concerning the Facility Access Request forms. The purpose of the forms is to apply for access to a FEMA controlled facility. This information is used to create a profile in the Physical Access Control System. The personally identifiable information is used to authenticate the identity of Federal employees, contractors, and visitors who have entry authorization, and in the event of an emergency, to contact individuals.

DATES: Comments must be submitted on or before March 23, 2020.

ADDRESSES: To avoid duplicate submissions to the docket, please use only one of the following means to submit comments:

(1) Online. Submit comments at www.regulations.gov under Docket ID FEMA-2019-0021. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: J'son Tyson; Chief, Identity Credential and Access Management; FEMA/OCSO/FOD; 202-412-5600; j'son.tyson@fema.dhs.gov. You may contact the Information Management Division for copies of the proposed collection of information at email address: FEMA-Information-Collections-Management@fema.dhs.gov.

SUPPLEMENTARY INFORMATION: The Federal Emergency Management Agency (FEMA) requires all new FEMA employees, contractors, and visitors to complete a Facility Access Request, FEMA Form 121-3-1-3A, prior to accessing any FEMA facility. In addition, for certain facilities designated as high security, current FEMA employees, contractors, and visitors will be required to fill out a separate Facility Access Request, FEMA Form 121-3-1-3B. The collection of personally identifiable information (PII) on both Facility Access Request forms will be used to create a profile in the Physical Access Control System (PACS) and authenticate the identity of Federal employees, contractors, and visitors who request entry authorization.

FEMA will use the information to run a background check through the National Crime Information Center (NCIC) on non-Federal visitors and individuals accessing high security facilities. NCIC is a computerized database administered by the Federal Bureau of Investigation (FBI) that provides ready access to law enforcement agencies for making inquiries about an individual's criminal history. This check verifies that the individual does not have any outstanding warrants for criminal activities indicating a risk to the Department.

All non-FEMA employees and contractors are visitors. Visitors who are employed by the U.S. Government or government contractors working for an agency other than FEMA must present a valid employee identification card issued by their employing agency and an on-site FEMA-employed sponsor must confirm the visit through the Facility Access Request. The visitor's first and last name, agency of employment, and armed status are recorded in PACS as well as the first and last name of the sponsor. This information may be provided in advance or, if no notice of the visit is given, at time of entry.

U.S. citizens who are not employed by the U.S. Government or government contractors who intend to visit a FEMA facility are subject to a background check using the NCIC system. As with non-FEMA U.S. Government employees and contractors, all prospective visitors falling under the non-Federal U.S. citizen category must be sponsored by an on-site FEMA employee who serves as the primary point of contact for the Office of the Chief Security Officer (OCSO) during the screening process. Sponsors initiate the screening process for non-Federal U.S. citizens by contacting the FEMA Access Control office to communicate their intention to host one or more visitors.

To begin the screening process, FEMA OCSO collects PII from prospective visitors using FEMA Form 121-3-1-3A or FEMA Form 121-3-1-3B, Facility Access Request, depending on the security level of the facility that the employee, contractor, or visitor requires access.

OCSO grants or denies access based on the information provided by NCIC. The determination to grant or deny access is communicated back to the sponsor and recorded in the visitor management module of the PACS along with the date the NCIC search was conducted.

Visitor management is governed by DHS Instruction Manual 121-01-011-01, Visitor Management for DHS Headquarters and DHS Component Headquarters Facilities; FEMA Directive 121-1, Personal Identification Standard; FEMA Directive 121-3, Facility Access; and FEMA Instruction 121-3-1, Credential and Access Reference.

Collection of Information

Title: Facility Access Request.

Type of Information Collection: New information collection.

OMB Number: 1660-NW75.

FEMA Forms: FEMA Form 121-3-1-3A and 121-3-1-3B.

Abstract: The purpose of these forms is to apply for access to all FEMA controlled facilities. This information is used to create a profile in the PACS. The PII is used to authenticate the identity of Federal employees, contractors, and visitors who have entry authorization, and in the event of an emergency, to contact individuals. Respondents are typically all occupations.

Affected Public: Federal Government & State, local or Tribal Government.

Estimated Number of Respondents: 20,500.

Estimated Number of Responses: 20,500.

Estimated Total Annual Burden Hours: 3,485.

Estimated Total Annual Respondent Cost: $127,098.

Estimated Respondents' Operation and Maintenance Costs: None.

Estimated Respondents' Capital and Start-Up Costs: None.

Estimated Total Annual Cost to the Federal Government: $23,027.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Mission Support, Federal Emergency Management Agency, Department of Homeland Security.

[FR Doc. 2020-00886 Filed 1-21-20; 8:45 am]

BILLING CODE 9111-19-P